DEPARTMENT OF DEFENSE

Department of the Air Force

Senior Executive Service Performance Review Board

AGENCY: Department of the Air Force.

ACTION: Notice.

SUMMARY: Notice is given of the names of members of the 2025 Performance Review Board for the Department of the Air Force.

DATES: December 3, 2025.

FOR FURTHER INFORMATION CONTACT: Please direct any written comments or requests for information to Ms. Jacquelyn Salkeld, Department of the Air Force Civilian Senior Executive Management Office, SAF/MRL, 1660 Air Force Pentagon, Washington, DC 20330-1040.

(Primary POC: PH: 703-693-6447; or via email at jacquelyn.salkeld.2@us.af.mil).

SUPPLEMENTARY INFORMATION: Pursuant to 5 U.S.C. 4314(c) (1-5), the Department of the Air Force announces the appointment of members to the Air Force's Senior Executive Service Performance Review Board. Appointments are made by the authorizing official. Each board member shall review and evaluate performance scores provided by the Senior Executive's rater/immediate supervisor. Performance standards must be applied consistently across the Air Force. The board will make final recommendations to the authorizing official relative to the performance of the executive.

The members of the 2025 Performance Review Board for the Air Force are:

1. Honorable Richard Anderson (Chair), Assistant Secretary of the Air Force for Manpower and Reserve Affairs

2. General Shawn Bratton (Co-Chair), Vice Chief, Space Operations, United States Space Force

3. Lt Gen Scott Pleus (Co-Chair), Acting Vice Chief, United States Air Force

4. LTG Thomas Carden, Deputy Commander, United States Northern Command

5. Mr. Edwin Oshiba, Director, Administration and Management, Office of the Secretary of the Air Force

6. Ms. Gwendolyn DeFilippi, Director, Competitive Activities, Office of the Secretary of the Air Force

7. Ms. Glenda Scheiner, Assistant Deputy Chief of Staff for Manpower, Personnel and Services

8. Ms. Katharine Kelley, Deputy Chief of Space Operations for Human Capital, United States Space Force

9. Ms. Lorna Estep, Executive Director, Air Force Materiel Command

10. Ms. Shannon McGuire, Principal Deputy General Counsel for the Department of the Air Force

11. Mr. Sean Dalton (Legal Advisor), Deputy General Counsel for the Department of the Air Force

Robert E. Bivins,
Federal Registrar Liaison Officer. (FRLO)

[FR Doc. 2025-21733 Filed 12-1-25; 8:45 am]

BILLING CODE P